DEPARTMENT OF ENERGY

[OE Docket No. EA-496]

Application To Export Electric Energy; Command Power Corp.

AGENCY: Office of Electricity, Department of Energy.

ACTION: Notice of application.

SUMMARY: Command Power Corp. (Applicant) has applied for authorization to transmit electric energy from the United States to Canada pursuant to the Federal Power Act.

DATES: Comments, protests, or motions to intervene must be submitted on or before September 29, 2022.

ADDRESSES: Comments, protests, motions to intervene, or requests for more information should be addressed by electronic mail to Electricity.Exports@hq.doe.gov, or by facsimile to (202) 586-8008.

FOR FURTHER INFORMATION CONTACT: Steven Blazek, 720-962-7265, steven.blazek@hq.doe.gov

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On June 7, 2022, Applicant filed an application with DOE (Application or App.) “for authority to transmit electric energy from the United States to Canada for a period of five (5) years.” App. at 2. Applicant states that it is “a Canadian company with its principal place of business in Douro-Dummer, Ontario.” Id. at 2. Applicant adds that “Command Power is a private corporation organized under the Business Corporations Act (Ontario, Canada). The company is a direct, wholly owned subsidiary of HJ&J Enterprises Ltd., which is 100 percent owned by an individual, Jonathan Nikkel.” Id. at 2-3. Applicant represents that it “does not have any affiliates or upstream owners that possess any ownership interest or involvement in any other company that is a traditional utility or that owns, operates, or controls any electric generation, transmission or distribution facilities.” Id.

Applicant further claims that it would “purchase power to be exported from a variety of sources such as power marketers, independent power producers, or U.S. electric utilities and federal power marketing entities as those terms are defined in sections 3(22) and 3(19) of the FPA.” App. at 3. Applicant contends that “by definition, such power is surplus to the system of the generator and, therefore, the electric power that Command Power will export on either a firm or interruptible basis will not impair the sufficiency of the electric power supply within the U.S. Id. at 3.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Command Power Corp.'s application to export electric energy to Canada should be clearly marked with OE Docket No. EA-496. Additional copies are to be provided directly to Ruta Kalvaitis Skučas and Maeve C. Tibbetts, K&L Gates LLP, 1601 K St, NW, Washington, DC 20006, ruta.skucas@klgates.com; maeve.tibbetts@klgates.com; and Jonathan Nikkel, President, Command Power Corp., 293 Douro Second Line, Douro-Dummer, ON, K0L2B0 Canada, jnikkel@commandpower.ca. A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Steven Blazek at Steven.Blazek@hq.doe.gov.

Signed in Washington, DC, on August 25, 2022.
Christopher Lawrence,
Management and Program Analyst, Electricity Delivery Division, Office of Electricity.

[FR Doc. 2022-18721 Filed 8-29-22; 8:45 am]

BILLING CODE 6450-01-P